DEPARTMENT OF COMMERCE

National Oceanic and Atmospheric Administration

[I.D. 121905C]

New England Fishery Management Council; Public Meeting

AGENCY: National Marine Fisheries Service (NMFS), National Oceanic and Atmospheric Administration (NOAA), Commerce.

ACTION: Notice; committee meeting.

SUMMARY: The New England Fishery Management Council's (Council) Habitat/MPA Committee will meet to consider actions affecting New England fisheries in the exclusive economic zone (EEZ).

DATES: The meeting will be held on Wednesday, January 11, 2006, at 9 a.m.

ADDRESSES: The meeting will be held at the Best Western Mystic, 9 Whitehall Avenue, Mystic, CT 06355; telephone: (860) 536-4281.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

1. The Committee will continue work on elements of the Essential Fish Habitat (EFH) Omnibus Amendment 2 including, but not limited to: review and refinement of EFH designations and consideration of Habitat Areas of Particular Concern.

2. The Committee will discuss issues relevant to the Ecosystems Pilot Project, including:

• A presentation on the interface of coastal pollution and marine fisheries productivity

• A review the Stakeholder Workshop results

• Future directions for the Pilot Project

3. There will be a closed session to consider Habitat Advisory Panel membership.

4. The Committee may consider other topics at their discretion.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Dated: December 21, 2005.
Emily Menashes,
Acting Director, Office of Sustainable Fisheries, National Marine Fisheries Service.

[FR Doc. E5-7829 Filed 12-23-05; 8:45 am]

BILLING CODE 3510-22-S